DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS).

Time and Date: November 28, 2006, 9 a.m.-3:15 p.m. November 92, 2006, 9 a.m.-12 p.m.

Place: Hubert H. Humphrey Building, 200 Independence Avenue SW., Room 505A, Washington, DC 20201.

Status: Open.

Purpose: At this meeting the Committee will hear presentations and hold discussions on several health data policy topics. On the morning of the first day the Committee will hear updates and status reports from the Department on various topics including activities of the HHS Data Council, and updates on HIPAA implementation, clinical data standards, the E-Prescribing Final Rule, and Privacy Rule compliance. They will also work on letters to the HHS Secretary on the National Provider Identifier (NPI), and applications of the Consolidated Health Informatics Initiative (CHI) for disability information. In the afternoon the Committee will discuss the 8th report to Congress on HIPAA implementation and hear updates from Subcommittees. A briefing on secondary uses of health data by an industry group has also been scheduled.

On the morning of the second day the Committee will continue working on the NPI and CHI letters. They will also be briefed on the status of the Health Information Security Privacy Collaboration, a project designed to asses how organizational business policies, practices, and State laws regarding privacy and security affect health information exchanging on a national level. There will be an update from the National Center for Health Statistic's Board of Scientific Counselors and a discussion on International Classifications and related activities. Subcommittees will then have the opportunity to provide additional updates on their work and a short discussion of future agendas and the meeting will adjourn.

The times shown above are for the full Committee meeting. Subcommittee breakout sessions are scheduled for late in the afternoon of the first day and in the morning prior to the full Committee meeting on the second day. Agendas for these breakout sessions will be posted on the NCVHS Web site (URL below) when available.

Contact Person for More Information: Substantive program information as well as summaries of meetings and a roster of committee members may be obtained from Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EE0 (4336) as soon as possible.

Dated: October 25, 2006.
James Scanlon,
Deputy Assistant Secretary for Planning and Evaluation (OSDP), Office of the Assistant Secretary for Planning and Evaluation.

[FR Doc. 06-9019 Filed 11-1-06; 8:45 am]

BILLING CODE 4151-05-M